DEPARTMENT OF ENERGY

Federal Energy Regulatory Commission

Combined Notice of Filings #1

Take notice that the Commission received the following electric corporate filings:

Docket Numbers: EC17-47-000.

Applicants: Wisconsin Power and Light Company, Wisconsin Public Service Corporation, Madison Gas and Electric Company.

Description: Supplement to December 13, 2016 Joint Application (Additional Information) under Section 203 of the Federal Power Act of Wisconsin Power and Light Company, et al.

Filed Date: 3/3/17.

Accession Number: 20170303-5184.

Comments Due: 5 p.m. ET 3/13/17.

Take notice that the Commission received the following electric rate filings:

Docket Numbers: ER14-1883-002.

Applicants: Allegheny Energy Supply Company, LLC.

Description: Compliance filing: Informational Filing to be effective N/A.

Filed Date: 3/8/17.

Accession Number: 20170308-5031.

Comments Due: 5 p.m. ET 3/29/17.

Docket Numbers: ER17-1113-000.

Applicants: NorthWestern Corporation.

Description: § 205(d) Rate Filing: SA 803—Utility Relocation Agreement with City of Billings (Grand Avenue) to be effective 3/8/2017.

Filed Date: 3/7/17.

Accession Number: 20170307-5212.

Comments Due: 5 p.m. ET 3/28/17.

Docket Numbers: ER17-1114-000.

Applicants: PacifiCorp.

Description: Notice of Termination of Tri-State Letter Agreement Rate Schedule No. 334 of PacifiCorp.

Filed Date: 3/7/17.

Accession Number: 20170307-5215.

Comments Due: 5 p.m. ET 3/28/17.

Docket Numbers: ER17-1115-000.

Applicants: Power Ventures Group, LLC.

Description: Petition of Power Ventures Group, LLC for Limited Waiver of the PJM Open Access Transmission Tariff Competitive Entry Exemption Deadline.

Filed Date: 3/7/17.

Accession Number: 20170307-5246.

Comments Due: 5 p.m. ET 3/28/17.

Docket Numbers: ER17-1118-000.

Applicants: PJM Interconnection, L.L.C.

Description: § 205(d) Rate Filing: Queue Position AB1-163, Original Service Agreement No. 4644 to be effective 2/8/2017.

Filed Date: 3/8/17.

Accession Number: 20170308-5048.

Comments Due: 5 p.m. ET 3/29/17.

Docket Numbers: ER17-1119-000.

Applicants: James River Genco, LLC.

Description: § 205(d) Rate Filing: CIS & Revisions re Limiting MBR Authority to PJM to be effective 3/9/2017.

Filed Date: 3/8/17.

Accession Number: 20170308-5050.

Comments Due: 5 p.m. ET 3/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2017.
Nathaniel J. Davis, Sr.,
Deputy Secretary.

[FR Doc. 2017-05126 Filed 3-14-17; 8:45 am]

BILLING CODE 6717-01-P